DEPARTMENT OF THE TREASURY

Bureau of the Public Debt

Senior Executive Service; Combined Performance Review Board (PRB)

AGENCY: Bureau of the Public Debt, Treasury Department.

ACTION: Notice of Members of Combined Performance Review Board (PRB).

SUMMARY: This notice announces the appointment of the members of the Combined Performance Review Board (PRB) for the Bureau of the Public Debt (BPD), the Bureau of Engraving and Printing (BEP), the Financial Management Service (FMS), the United States Mint, the Alcohol and Tobacco Tax and Trade Bureau (TTB), and the Financial Crimes Enforcement Network (FinCEN). The Combined PRB reviews the performance appraisals of career senior executives who are below the level of bureau head and principal deputy in the bureaus, except for executives below the Assistant Commissioner/Executive Director level in the Bureau of the Public Debt and Financial Management Service. The Combined PRB makes recommendations regarding proposed performance appraisals, ratings, bonuses, pay adjustments, and other appropriate personnel actions.

DATES: The membership of the Combined PRB as described in the Notice is effective on October 18, 2011.

FOR FURTHER INFORMATION CONTACT: Angela Jones, Director, Human Resources Division, Office of Management Services, BPD, (304) 480-8301.

SUPPLEMENTARY INFORMATION: Pursuant to 5 U.S.C. 4314(c)(4), this Notice announces the appointment of the following primary and alternate members to the Combined PRB:

Primary Members

Anita Shandor, Deputy Commissioner, BPD.

Pamela J. Gardiner, Deputy Director, BEP.

Wanda Rogers, Deputy Commissioner, FMS.

Richard Peterson, Deputy Director, United States Mint.

Mary G. Ryan, Deputy Administrator, TTB.

Nicholas V. Colucci, Acting Deputy Director, FinCEN.

Alternate Members

Lori Santamorena, Executive Director, BPD.

Scott Wilson, Associate Director, Management, BEP.

John Kopec, Chief Business Architect/Assistant Commissioner, FMS.

Marty Greiner, Chief Financial Officer, United States Mint.

John J. Manfreda, Administrator, TTB.

Diane K. Wade, Associate Director, Management, FinCEN.

Van Zeck,
Commissioner.

[FR Doc. 2011-26871 Filed 10-17-11; 8:45 am]

BILLING CODE 4810-39-P